ENVIRONMENTAL PROTECTION AGENCY

[FRL-8182-8]

Public Water System Supervision Program Revisions for the State of Ohio

AGENCY: Environmental Protection Agency (EPA).

ACTION: Notice of tentative approval.

SUMMARY: Notice is hereby given that the State of Ohio is revising its approved Public Water System Supervision Program. Ohio has revised its definition of a Public Water System, Consumer Confidence Report Rule, Public Notification Rule, Interim Enhanced Surface Water Treatment Rule; and Stage 1 Disinfectants and Disinfection Byproducts Rule.

EPA has determined that these revisions by the State are no less stringent than the corresponding Federal regulations. Therefore, EPA intends to approve these revisions to the State of Ohio's Public Water System Supervision Program.

Any interested party may request a public hearing. A request for a public hearing must be submitted by July 12, 2006, to the Regional Administrator at the EPA Region 5 address shown below. The Regional Administrator may deny frivolous or insubstantial requests for a hearing. However, if a substantial request for a public hearing is made by July 12, 2006, EPA Region 5 will hold a public hearing. If EPA Region 5 does not receive a timely and appropriate request for a hearing and the Regional Administrator does not elect to hold a hearing on his own motion, this determination shall become final and effective on July 12, 2006. Any request for a public hearing shall include the following information: The name, address, and telephone number of the individual, organization, or other entity requesting a hearing; a brief statement of the requesting person's interest in the Regional Administrator's determination and a brief statement of the information that the requesting person intends to submit at such hearing; and the signature of the individual making the request, or, if the request is made on behalf of an organization or other entity, the signature of a responsible official of the organization or other entity.

ADDRESSES: All documents relating to this determination are available for inspection at the following offices: Ohio Environmental Protection Agency, Division of Drinking and Ground Waters, 122 South Front Street, Columbus, Ohio 43215, between the hours of 8:30 a.m. and 4 p.m., Monday through Friday, and the United States Environmental Protection Agency, Region 5, Ground Water and Drinking Water Branch (WG-15J), 77 West Jackson Boulevard, Chicago, Illinois 60604, between the hours of 9 a.m. and 4:30 p.m., Monday through Friday.

FOR FURTHER INFORMATION CONTACT: Alicia Brown, EPA Region 5, Ground Water and Drinking Water Branch, at the address given above, by telephone at (312) 886-4443, or at brown.alicia@epa.gov.

Authority: Section 1413 of the Safe Drinking Water Act, as amended, 42 U.S.C. 3006-2 (1996), and 40 CFR part 142 of the National Primary Drinking Water Regulations.

Dated: May 25, 2006.
Norman Niedergang,
Acting Regional Administrator, Region 5.

[FR Doc. E6-9080 Filed 6-9-06; 8:45 am]

BILLING CODE 6560-50-P